FEDERAL MARITIME COMMISSION

46 CFR Parts 501, 502, 503, 504, 506, 508, 515, 520, 525, 530, 531, 535, 540, 545, 550, 551, 555, 560, and 565.

[Docket No. 09-06]

RIN 3072-AC37

Recodification of the Shipping Act as Positive Law

September 16, 2009.

AGENCY: Federal Maritime Commission.

ACTION: Final rule.

SUMMARY: This rule amends Commission regulations to reflect the codification of the Shipping Act as positive law. No substantive change is involved.

DATES: Effective Date: October 1, 2009.

FOR FURTHER INFORMATION CONTACT: Karen V. Gregory, Secretary, Federal Maritime Commission, 800 North Capitol Street, NW., Washington, DC 20573-0001. (202) 523-5725. E-mail: secretary@fmc.gov.

SUPPLEMENTARY INFORMATION: The House of Representatives introduced H.R. 1442 to complete the codification of title 46, United States Code, “Shipping,” as positive law, by reorganizing and restating the laws previously set forth in the appendix to title 46. On October 6, 2006, H.R. 1442 was enacted as Public Law 109-304. This rule changes prior references in the Commission regulations to reflect the codification and involves no substantive changes. This rule also corrects typographical errors in the Commission regulations.

Because this rule involves no substantive changes, the Commission finds, pursuant to 5 U.S.C. 553(b)(B), that notice and public procedure on this rule is unnecessary. The Chairman of the Commission certifies, pursuant to section 605(b) of the Regulatory Flexibility Act, 5 U.S.C. et seq., that the rule will not, if promulgated, have a significant economic impact on a substantial number of small entities.

This rule is not a “major rule” under 5 U.S.C. 804(2).

List of Subjects

46 CFR Part 501

Administrative practice and procedure, Authority delegations, Organization and functions, Seals and insignia.

46 CFR Part 502

Administrative practice and procedure, Claims, Investigations, Lawyers, Penalties, Reporting and recordkeeping requirements.

46 CFR Part 503

Freedom of information, Sunshine Act.

46 CFR Part 504

Environmental impact statements, Reporting and recordkeeping requirements.

46 CFR Part 506

Administrative practice and procedure, Penalties.

46 CFR Part 508

Conflict of interests.

46 CFR Part 515

Freight forwarders, Maritime carriers, Reporting and recordkeeping requirements.

46 CFR Part 520

Freight, Intermodal transportation, Maritime carriers, Reporting and recordkeeping requirements.

46 CFR Part 525

Freight, Harbors, Reporting and recordkeeping requirements, Warehouses.

46 CFR Part 530

Freight, Maritime carriers, Reporting and recordkeeping requirements.

46 CFR Part 531

Freight, Non-vessel-operating common carriers, Reporting and recordkeeping requirements.

46 CFR Part 535

Administrative practice and procedure, Maritime carriers, Terminal operators, Reporting and recordkeeping requirements.

46 CFR Part 540

Insurance, Maritime carriers, Reporting and recordkeeping requirements, Surety bonds.

46 CFR Part 545

Antitrust, Maritime carriers.

46 CFR Part 550

Administrative practice and procedure, Maritime carriers, Penalties.

46 CFR Part 551

Unfavorable conditions, foreign trade.

46 CFR Part 555

Administrative practice and procedure, Investigations, Maritime carriers.

46 CFR Part 560

Administrative practice and procedure, Maritime carriers.

46 CFR Part 565

Administrative practice and procedure, Maritime carriers, Reporting and recordkeeping requirements.

For the reasons set forth above, the Federal Maritime Commission amends 46 CFR Part 501, 502, 503, 504, 505, 506, 508, 515, 520, 525, 530, 531, 535, 540, 545, 550, 551, 555, 560, and 565, as follows:

PART 501—THE FEDERAL MARITIME COMMISSION—GENERAL

1. Revise the authority citation for part 501 to read as follows:

Authority: 5 U.S.C. 551-557, 701-706, 2903, and 6304; 31 U.S.C. 3721; 41 U.S.C. 414 and 418; 44 U.S.C. 501-520 and 3501-3520; 46 U.S.C. 301-307, 40101-41309, 42101-42109, 44101-44106; Reorganization Plan No. 7 of 1961, 26 FR 7315, August 12, 1961; Pub. L. 89-56, 70 Stat. 195; 5 CFR Part 2638; Pub. L. 104-320, 110 Stat. 3870.

Subpart A—Organization and Functions

2. Section 501.2(a) is revised to read as follows:

§ 501.2 General

(a) Statutory functions. The Commission regulates common carriers by water and other persons involved in the oceanborne foreign commerce of the United States under provisions of the Shipping Act of 1984 (46 U.S.C. 40101-41309); section 19 of the Merchant Marine Act, 1920 (46 U.S.C. 42101-42109); the Foreign Shipping Practices Act of 1988 (46 U.S.C. 42301-42307); sections 2 and 3, Public Law 89-777, Financial Responsibility for Death or Injury to Passengers and for Non-Performance of Voyages (46 U.S.C. 44101-44106); and other applicable statutes.

* * * * *

§ 501.5 [Amended]

3. In § 501.5(d)(6), remove the reference in the “Remove” column and add in its place the reference in the “Add” column in the following table:

Remove | Add
section 3(8) of the Shipping Act of 1984 | section 3(8) of the Shipping Act of 1984 (46 U.S.C. 40102(8)).

Subpart B—Official Seal

§ 501.11 [Amended]

4. In § 501.11(a), remove the reference in the “Remove” column and add in its place the reference in the “Add” column in the following table:

Remove | Add
section 201(c) of the Merchant Marine Act, 1936, as amended (46 U.S.C. app. 1111(c)) | section 201(c) of the Merchant Marine Act, 1936, as amended (46 U.S.C. 301(d)).

Subpart C—Delegation and Redelegation of Authorities

§ 501.23 [Amended]

5. In § 501.23, remove the reference in the “Remove” column and add in its place the reference in the “Add” column in the following table:

Remove | Add
section 3(8) of the Shipping Act of 1984 | section 3(8) of the Shipping Act of 1984 (46 U.S.C. 40102(8)).

§ 501.24 [Amended]

6. In § 501.24(e), remove the reference in the “Remove” column and add in its place the reference in the “Add” column in the following table:

Remove | Add
section 5 of the Shipping Act of 1984 | section 5 of the Shipping Act of 1984 (46 U.S.C. 40301(d)-(e), 40302, 0940303, 40305).

§ 501.27 [Amended]

7. In § 501.27(a), remove the reference in the “Remove” column and add in its place the reference in the “Add” column in the following table:

Remove | Add
section 6(c)(1), and to shorten the review period under section 6(e), of the Shipping Act of 1984 | section 6(c)(1), and to shorten the review period under section 6(e), of the Shipping Act of 1984 (46 U.S.C. 40304(c)(1) and (e)(1)).

8. In § 501.27(e), remove the reference in the “Remove” column and add in its place the reference in the “Add” column in the following table:

Remove | Add
section 6(c)(1) of the Shipping Act of 1984 | section 6(c)(1) of the Shipping Act of 1984 (46 U.S.C. 40304(c)(1)).

9. In § 501.27(i), remove the reference in the “Remove” column and add in its place the reference in the “Add” column in the following table:

Remove | Add
section 5 of the Shipping Act of 1984 | section 5 of the Shipping Act of 1984 (46 U.S.C. 40301(d)-(e), 40302-40303, 40305).

10. In § 501.27(j), remove the reference in the “Remove” column and add in its place the reference in the “Add” column in the following table:

Remove | Add
section 9(d) of the Shipping Act of 1984 | section 9(d) of the Shipping Act of 1984 (46 U.S.C. 40704(b)-(e)).

11. In § 501.27(l)(1), remove the reference in the “Remove” column and add in its place the reference in the “Add” column in the following table:

Remove | Add
section 8 of the Shipping Act of 1984 | section 8 of the Shipping Act of 1984 (46 U.S.C. 40501-40503).

12. In § 501.27(m)(1), remove the reference in the “Remove” column and add in its place the reference in the “Add” column in the following table:

Remove | Add
section 9 of the Shipping Act of 1984 | section 9 of the Shipping Act of 1984 (46 U.S.C. 40701-40706).

PART 502—RULES OF PRACTICE AND PROCEDURE

13. Revise the authority citation for part 502 to read as follows:

Authority: 5 U.S.C. 504, 551, 552, 553, 556(c), 559, 561-569, 571-596; 5 U.S.C. 571-584; 12 U.S.C. 1141j(a); 18 U.S.C. 207; 26 U.S.C. 501(c)(3); 28 U.S.C. 2112(a); 31 U.S.C. 9701; 46 U.S.C. 305, 40103-40104, 40304, 40306, 40501-40503, 40701-40706, 41101-41109, 41301-41309, 44101-44106; E.O. 11222 of May 8, 1965, 30 FR 6469, 3 CFR, 1964-1965 Comp. P. 306; 21 U.S.C. 853a.

Subpart C—Parties

r

§ 502.41 [Amended]

14. In § 502.41, remove the reference in the “Remove” column and add in its place the reference in the “Add” column in the following table:

Remove | Add
section 11(c) of the Shipping Act of 1984 | section 11(c) of the Shipping Act of 1984 (46 U.S.C. 41302(a)-(b), 41307(b)).

§ 502.44 [Amended]

15. In § 502.44(c), remove the reference in the “Remove” column and add in its place the reference in the “Add” column in the following table:

Remove | Add
section 5(a) of the Shipping Act of 1984 | section 5(a) of the Shipping Act of 1984 (46 U.S.C. 40302).

Subpart E—Proceedings; Pleadings; Motions; Replies

§ 502.63 [Amended]

16. In § 502.63(a), remove the reference in the “Remove” column and add in its place the reference in the “Add” column in the following table:

Remove | Add
section 11 of the Shipping Act of 1984 | section 11 of the Shipping Act of 1984 (46 U.S.C. 41301-41302, 41305-41307(a)).

§ 502.67 [Amended]

17. In § 502.67(b), remove the reference in the “Remove” column and add in its place the reference in the “Add” column in the following table:

Remove | Add
section 16 of the Shipping Act of 1984 | section 16 of the Shipping Act of 1984 (46 U.S.C. 40103).

§ 502.68 [Amended]

18. In § 502.68(b), remove the reference in the “Remove” column and add in its place the reference in the “Add” column in the following table:

Remove | Add
section 11 of the Shipping Act of 1984 | section 11 of the Shipping Act of 1984 (46 U.S.C. 41301-41302, 41305-41307(a)).

§ 502.75 [Amended]

19. In § 502.75(a), remove the reference in the “Remove” column and add in its place the reference in the “Add” column in the following table:

Remove | Add
section 5(e) of the Shipping Act of 1984 | section 5(e) of the Shipping Act of 1984 (46 U.S.C. 40301(e), 40305).

Subpart H—Form, Execution, and Service of Documents

§ 502.114 [Amended]

20. In § 502.114(b), remove the reference in the “Remove” column and add in its place the reference in the “Add” column in the following table:

Remove | Add
under section 19 of the Merchant Marine Act, 1920, 46 U.S.C. app. 876(1)(b) (part 550), and proceedings under section 13(b)(6) of the Shipping Act of 1984 (part 560) | under section 19 of the Merchant Marine Act, 1920 (46 U.S.C. 42101) (part 550), and proceedings under section 13(b)(6) of the Shipping Act of 1984 (46 U.S.C. 41108(d)) (part 560).

Subpart O—Reparation

§ 502.254 [Amended]

21. In § 502.254(a), remove the reference in the “Remove” column and add in its place the reference in the “Add” column in the following table:

Remove | Add
section 11 of the Shipping Act of 1984 | section 11 of the Shipping Act of 1984 (46 U.S.C. 41301-41302, 41305-41307(a)).

Subpart S—Informal Procedure for Adjudication of Small Claims

§ 502.301 [Amended]

22. In § 502.301(a), remove the reference in the “Remove” column and add in its place the reference in the “Add” column in the following table:

Remove | Add
Section 11(a) of the Shipping Act of 1984 | Section 11(a) of the Shipping Act of 1984 (46 U.S.C. 41301(a)).

Subpart T—Formal Procedure for Adjudication of Small Claims

§ 502.318 [Amended]

23. In § 502.318(b), remove the reference in the “Remove” column and add in its place the reference in the “Add” column in the following table:

Remove | Add
section 11 of the Shipping Act of 1984 | section 11 of the Shipping Act of 1984 (46 U.S.C. 41301-41302, 41305-41307(a)).

Subpart W—Compromise, Assessment, Mitigation, Settlement, and Collection of Civil Penalties

§ 502.601 [Amended]

24. In § 502.601, remove the reference in the “Remove” column and add in its place the reference in the “Add” column in the following table:

Remove | Add
section 19 of the Merchant Marine Act, 1920, section 13 of the Shipping Act of 1984, and sections 2(c) and 3(c) of Pub. L. 89-777 | section 19 of the Merchant Marine Act, 1920 (46 U.S.C. 42101-42109), section 13 of the Shipping Act of 1984 (46 U.S.C. 41107-41109), and sections 2(c) and 3(c) of Pub. L. 89-777 (46 U.S.C. 44104).

§ 502.602 [Amended]

25. In § 502.602(h), remove the reference in the “Remove” column and add in its place the reference in the “Add” column in the following table:

Remove | Add
sections 19(6)(d), 19(7)(d) and 19(11) of the Merchant Marine Act, 1920; any provision of the Shipping Act of 1984; sections 2 and 3 of Pub. L. 89-777 | sections 19(f)(4), 19(g)(4) and 19(k) of the Merchant Marine Act, 1920 (46 U.S.C. 42104(a), 42104(d), and 42108); any provision of the Shipping Act of 1984 (46 U.S.C. 40101-41309); sections 2 and 3 of Pub. L. 89-777 (46 U.S.C. 44101-44106).

PART 503—PUBLIC INFORMATION

Subpart C—Records, Information and Materials Generally Available to the Public Without Resort to Freedom of Information Act Procedures

26. The authority citation for Part 503 continues to read as follows:

Authority: 5 U.S.C. 552, 552a, 552b, 553; 31 U.S.C. 9701; E.O. 12958 of April 20, 1995 (60 FR 19825), sections 5.2(a) and (b).

§ 503.23 [Amended]

27. In § 503.23(a)(1), remove the reference in the “Remove” column and add in its place the reference in the “Add” column in the following table:

Remove | Add
sections 5 and 6 of the Shipping Act of 1984 | section 5 (46 U.S.C. 40301(d)-(e), 40302-40303, 40305) and 6 (46 U.S.C. 40304, 40306, 41307(b)-(d)) of the Shipping Act of 1984.

28. In § 503.23(a)(2), remove the reference in the “Remove” column and add in its place the reference in the “Add” column in the following table:

Remove | Add
section 5 of the Shipping Act of 1984 | section 5 of the Shipping Act of 1984 (46 U.S.C. 40301(d)-(e), 40302-40303, 40305).

PART 504—PROCEDURES FOR ENVIRONMENTAL POLICY ANALYSIS

29. Revise the authority citation for part 504 to read as follows:

Authority: 5 U.S.C. 552, 553; 46 U.S.C. 305 and 41107-41109; 42 U.S.C. 4332(2)(b), and 42 U.S.C. 6362.

§ 504.1 [Amended]

30. In § 504.1(c), remove the references in the “Remove” column and add in their place the references in the “Add” column in the following table:

Remove | Add
section 15 of the Shipping Act of 1984 | section 15 of the Shipping Act of 1984 (46 U.S.C. 40104).
section 13 of the Shipping Act of 1984 | section 13 of the Shipping Act of 1984 (46 U.S.C. 41107-41109).

§ 504.2 [Amended]

31. In § 504.2(a), remove the reference in the “Remove” column and add in its place the reference in the “Add” column in the following table:

Remove | Add
Shipping Act of 1984 (46 U.S.C. app. 1701-1720) | Shipping Act of 1984 (46 U.S.C. 40101-41309).

32. In § 504.2(b), remove the reference in the “Remove” column and add in its place the reference in the “Add” column in the following table:

Remove | Add
section 3 of the Shipping Act of 1984 | section 3 of the Shipping Act of 1984 (46 U.S.C. 40102).

§ 504.4 [Amended]

33. In § 504.4(a)(9), remove the reference in the “Remove” column and add in its place the reference in the “Add” column in the following table:

Remove | Add
section 5 of the Shipping Act of 1984 | section 5 of the Shipping Act of 1984 (46 U.S.C. 40301(d)-(e), 40302-40303, 40305).

34. In § 504.4(a)(15), remove the reference in the “Remove” column and add in its place the reference in the “Add” column in the following table:

Remove | Add
section 9 of the Shipping Act of 1984 | section 9 of the Shipping Act of 1984 (46 U.S.C. 40701-40706).

§ 504.9 [Amended]

35. In § 504.9(d), remove the reference in the “Remove” column and add in its place the reference in the “Add” column in the following table:

Remove | Add
section 15 of the Shipping Act of 1984 | section 15 of the Shipping Act of 1984 (46 U.S.C. 40104).

PART 506—CIVIL MONETARY PENALTY INFLATION ADJUSTMENT

36. The authority citation for Part 506 continues to read as follows:

Authority: 61 FR 52705, Oct. 8, 1996, unless otherwise noted.

§ 506.1 [Amended]

37. In § 506.1, remove the reference in the “Remove” column and add in its place the reference in the “Add” column in the following table:

Remove | Add
the Federal Civil Penalties Inflation Adjustment Act of 1990, 46 U.S.C. 2461 | the Federal Civil Penalties Inflation Adjustment Act of 1990 (28 U.S.C. 2461 note).

PART 508—EMPLOYEE ETHICAL CONDUCT STANDARDS AND FINANCIAL DISCLOSURE REGULATIONS

38-39. Revise the authority citation for part 508 to read as follows:

Authority: 5 U.S.C. 553; 5 U.S.C. 7301; 46 U.S.C. 305.

PART 515—LICENSING, FINANCIAL RESPONSIBILITY REQUIREMENTS, AND GENERAL DUTIES FOR OCEAN TRANSPORTATION INTERMEDIARIES

40. Revise the authority citation for part 515 to read as follows:

Authority: 5 U.S.C. 553; 31 U.S.C. 9701; 46 U.S.C. 305, 40102, 40104, 40501-40503, 40901-40904, 41101-41109, 41301-41302, 41305-41307; Pub. L. 105-383, 112 Stat. 3411; 21 U.S.C. 862.

Subpart A—General

§ 515.1 [Amended]

41. In § 515.1(b), remove the reference in the “Remove” column and add in its place the reference in the “Add” column in the following table:

Remove | Add
(46 U.S.C. app. 1712) | (46 U.S.C. 41107-41109).

Subpart C—Financial Responsibility Requirements; Claims Against Ocean Transportation Intermediaries

§ 515.22 [Amended]

42. In § 515.22(d)(4), remove the reference in the “Remove” column and add in its place the reference in the “Add” column in the following table:

Remove | Add
section 11 of the Act, or any penalty assessed against the ocean transportation intermediary pursuant to section 13 of the Act | section 11 of the Act (46 U.S.C. 41301-41302, 41305-41307(a)), or any penalty assessed against the ocean transportation intermediary pursuant to section 13 of the Act (46 U.S.C. 41107-41109).

43. In § 515.22(d)(5)(i), remove the reference in the “Remove” column and add in its place the reference in the “Add” column in the following table:

Remove | Add
section 11 of the Act, or any penalty assessed against each covered member ocean transportation intermediary pursuant to section 13 of the Act | section 11 of the Act (46 U.S.C. 41301-41302, 41305-41307(a)), or any penalty assessed against each covered member ocean transportation intermediary pursuant to section 13 of the Act (46 U.S.C. 41107-41109).

§ 515.23 [Amended]

44. In § 515.23(a), remove the reference in the “Remove” column and add in its place the reference in the “Add” column in the following table:

Remove | Add
pursuant to sections 11 or 14 of the Act, or assesses a penalty pursuant to section 13 of the Act | pursuant to sections 11 (46 U.S.C. 41301-41302, 41305-41307(a)) or 14 (46 U.S.C. 41304, 41308-41309) of the Act, or assesses a penalty pursuant to section 13 of the Act (46 U.S.C. 41107-41109).

45. In § 515.23(b)(1), remove the reference in the “Remove” column and add in its place the reference in the “Add” column in the following table:

Remove | Add
pursuant to section 11 of the Act | pursuant to section 11 of the Act (46 U.S.C. 41301-41302, 41305-41307(a)).

§ 515.27 [Amended]

46. In § 515.27(a), remove the reference in the “Remove” column and add in its place the reference in the “Add” column in the following table:

Remove | Add
sections 8 and 19 of the Act | sections 8 (46 U.S.C. 40501-40503) and 19 (46 U.S.C. 40901-40904) of the Act.

47. In § 515.27(c), remove the reference in the “Remove” column and add in its place the reference in the “Add” column in the following table:

Remove | Add
under section 10(b)(11) of the Act | under section 10(b)(11) of the Act (46 U.S.C. 41104(11)).

Appendix A to Subpart C of Part 515—Ocean Transportation Intermediary (OTI) Bond Form [Form 48]

Form FMC-48 [Amended]

48. In Form FMC-48, remove the references in the “Remove” column and add in their place the references in the “Add” column in the following table:

Remove | Add
Section 19, Shipping Act of 1984, as amended by the Ocean Shipping Reform Act of 1998 | Section 19, Shipping Act of 1984 (46 U.S.C. 40901-40904).
46 U.S.C. app 1702 | 46 U.S.C. 40102.
section 11 of the 1984 Act, 46 U.S.C. app. 1710, or any penalty assessed against the Principal pursuant to section 13 of the 1984 Act, 46 U.S.C. app. 1712 | section 11 of the 1984 Act (46 U.S.C. 41301-41302, 41305-41307(a)), or any penalty assessed against the Principal pursuant to section 13 of the 1984 Act (46 U.S.C. 41107-41109).

Appendix B to Subpart C of Part 515—Ocean Transportation Intermediary (OTI) Insurance [Form 67]

Form FMC-67 [Amended]

49. In Form FMC-67, remove the references in the “Remove” column and add in their place the references in the “Add” column in the following table:

Remove | Add
Under 46 U.S.C. app. 1718 | Under 46 U.S.C. 40901-40904.
with the provisions of 46 U.S.C. app. 1718 | with the provisions of 46 U.S.C. 40901-40904.
subject to the 1984 Act, 46 U.S.C. app. 1701 et seq. | subject to the 1984 Act (46 U.S.C. 40101-41309).
section 19 of the 1984 Act, 46 U.S.C. app. 1718 | section 19 of the 1984 Act (46 U.S.C. 40901-40904).
section 11 of the 1984 Act, 46 U.S.C. app. 1710 | section 11 of the 1984 Act (46 U.S.C. 41301-41302, 41305-41307(a)).
section 13 of the 1984 Act, 46 U.S.C. app. 1712 | section 13 of the 1984 Act (46 U.S.C. 41107-41109).

Appendix C to Subpart C of Part 515—Ocean Transportation Intermediary (OTI) Guaranty Form [Form 68]

Form FMC-68 [Amended]

50. In Form FMC-68, remove the references in the “Remove” column and add in their place the references in the “Add” column in the following table:

Remove | Add
46 U.S.C. app. 1701 et seq., | (46 U.S.C. 40101-41309).
section 11 of the 1984 Act, 46 U.S.C. app. 1710 | section 11 of the 1984 Act (46 U.S.C. 41301-41302, 41305-41307(a)).
section 13 of the 1984 Act, 46 U.S.C. app. 1712 | section 13 of the 1984 Act (46 U.S.C. 41107-41109).

Appendix D to Subpart C of Part 515—Ocean Transportation Intermediary (OTI) Group Bond Form [Form 69]

Form FMC-69 [Amended]

51. In Form FMC-69, remove the references in the “Remove” column and add in their place the references in the “Add” column in the following table:

Remove | Add
Section 19, Shipping Act of 1984, as amended by the Ocean Shipping Reform Act of 1998 | Section 19, Shipping Act of 1984 (46 U.S.C. 40901-40904).
under the 1984 Act, 46 U.S.C. app. 1701 et seq. | under the 1984 Act (46 U.S.C. 40101-41309).
pursuant to section 11 of the 1984 Act, 46 U.S.C. app. 1710 | pursuant to section 11 of the 1984 Act (46 U.S.C. 41301-41302, 41305-41307(a)).
pursuant to section 13 of the 1984 Act, 46 U.S.C. app. 1712 | pursuant to section 13 of the 1984 Act (46 U.S.C. 41107-41109).

Appendix E to Subpart C of Part 515—Optional Rider for Additional NVOCC Financial Responsibility (Optional Rider to Form FMC-48) [Form 48A]

Form FMC-48A [Amended]

52. In Form FMC-48A, remove the reference in the “Remove” column and add in its place the reference in the “Add” column in the following table:

Remove | Add
section 19 of the Shipping Act of 1984, 46 U.S.C. app. 1718 | section 19 of the Shipping Act of 1984 (46 U.S.C. 40901-40904).

Appendix F to Subpart C of Part 515—Optional Rider for Additional NVOCC Financial Responsibility for Group Bonds [Optional Rider to Form FMC-69)

Form FMC-69A [Amended]

53. In Form FMC-69A, remove the reference in the “Remove” column and add in its place the reference in the “Add” column in the following table:

Remove | Add
section 19 of the Shipping Act of 1984, 46 U.S.C. app. 1718 | section 19 of the Shipping Act of 1984 (46 U.S.C. 40901-40904).

Subpart E—Freight Forwarding Fees and Compensation

§ 515.42 [Amended]

54. In § 515.42(d), remove the reference in the “Remove” column and add in its place the reference in the “Add” column in the following table:

Remove | Add
19(e)(4) of the Act | 19(e)(4) of the Act (46 U.S.C. 40904(d)).

PART 520—CARRIER AUTOMATED TARIFFS

55. Revise the authority citation for part 520 to read as follows:

Authority: 5 U.S.C. 553; 46 U.S.C. 305, 40101-40102, 40501-40503, 40701-40706, 41101-41109.

§ 520.1 [Amended]

56. In § 520.1(a), remove the reference in the “Remove” column and add in its place the reference in the “Add” column in the following table:

Remove | Add
section 8 of the Shipping Act of 1984 (“Act”) | section 8 of the Shipping Act of 1984 (“the Act”) (46 U.S.C. 40501-40503).

57. In § 520.1(b)(2), remove the reference in the “Remove” column and add in its place the reference in the “Add” column in the following table:

Remove | Add
section 8 of the Act | section 8 of the Act (46 U.S.C. 40501-40503).

58. In § 520.1(b)(3), remove the reference in the “Remove” column and add in its place the reference in the “Add” column in the following table:

Remove | Add
section 10 of the Act | section 10 of the Act (46 U.S.C. 41101-41106).

59. In § 520.1(b)(4), remove the reference in the “Remove” column and add in its place the reference in the “Add” column in the following table:

Remove | Add
section 9 of the Act | section 9 of the Act (46 U.S.C. 40701-40706).

§ 520.4 [Amended]

60. In § 520.4(a)(3), remove the reference in the “Remove” column and add in its place the reference in the “Add” column in the following table:

Remove | Add
section 3(17)(A) of the Act | section 3(17)(A) of the Act (46 U.S.C. 40102(18)).

61. In § 520.4(i), remove the reference in the “Remove” column and add in its place the reference in the “Add” column in the following table:

Remove | Add
section 5(b)(6) of the Act | section 5(b)(6) of the Act (46 U.S.C. 40303(b)(6)).

§ 520.13 [Amended]

62. In § 520.13(a), remove the reference in the “Remove” column and add in its place the reference in the “Add” column in the following table:

Remove | Add
section 16 of the Act | section 16 of the Act (46 U.S.C. 40103).

§ 520.14 [Amended]

63. In § 520.14(a), remove the references in the “Remove” column and add in their place the references in the “Add” column in the following table:

Remove | Add
Section 8(d) of the Act | Section 8(d) of the Act (46 U.S.C. 40501(e)).
Section 9(c) of the Act | Section 9(c) of the Act (46 U.S.C. 40703, 40704(a)).

PART 525—MARINE TERMINAL OPERATOR SCHEDULES

64. Revise the authority citation for Part 525 is to read as follows:

Authority: 46 U.S.C. 40102, 40501, 41101-41106.

§ 525.1 [Amended]

65. In § 525.1(a), remove the reference in the “Remove” column and add in its place the reference in the “Add” column in the following table:

Remove | Add
section 10 of the Act | section 10 of the Act (46 U.S.C. 41101-41106).

§ 525.2 [Amended]

66. In § 525.2(a), remove the reference in the “Remove” column and add in its place the reference in the “Add” column in the following table:

Remove | Add
section 10(d) of the Act | section 10(d) of the Act (46 U.S.C. 41102(c), 41103, 41106).

PART 530—SERVICE CONTRACTS

67. Revise the authority citation for part 530 to read as follows:

Authority: 5 U.S.C. 553; 46 U.S.C. 305, 40301-40306, 40501-40503, 41307.

Subpart A—General Provisions

§ 530.1 [Amended]

68. In § 530.1, remove the reference in the “Remove” column and add in its place the reference in the “Add” column in the following table:

Remove | Add
section 8(c) of the Shipping Act of 1984 (“Act”) | section 8(c) of the Shipping Act of 1984 (“the Act”) (46 U.S.C. 40502).

§ 530.3 [Amended]

69. In § 530.3(p), remove the reference in the “Remove” column and add in its place the reference in the “Add” column in the following table:

Remove | Add
section 3(17)(B) of the Act | section 3(17)(B) of the Act (46 U.S.C. 40102(16)).

§ 530.6 [Amended]

70. In § 530.6(b), remove the reference in the “Remove” column and add in its place the reference in the “Add” column in the following table:

Remove | Add
sections 8 and 19 of the Act | sections 8 (46 U.S.C. 40501-40503) and 19 (46 U.S.C. 40901-40904) of the Act.

71. In § 530.6(d), remove the reference in the “Remove” column and add in its place the reference in the “Add” column in the following table:

Remove | Add
section 10(b)(12) of the Act | section 10(b)(12) of the Act (46 U.S.C. 41104(12)).

§ 530.7 [Amended]

72. In § 530.7(f), remove the reference in the “Remove” column and add in its place the reference in the “Add” column in the following table:

Remove | Add
section 8(c) of the Act | section 8(c) of the Act (46 U.S.C. 40502).

Subpart D—Exceptions and Implementation

§ 530.13 [Amended]

73. In § 530.13(a), remove the references in the “Remove” column and add in their place the references in the “Add” column in the following table:

Remove | Add
section 3 of the Act | section 3 of the Act (46 U.S.C. 40102).
§ 530.3 or § 520.1 of this chapter | § 530.3 or § 520.2 of this chapter.
section 8(c) of the Act | section 8(c) of the Act (46 U.S.C. 40502).

74. In § 530.13(b), remove the reference in the “Remove” column and add in its place the reference in the “Add” column in the following table:

Remove | Add
section 16 of the Act | section 16 of the Act (46 U.S.C. 40103).

§ 530.14 [Amended]

75. In § 530.14(b), remove the references in the “Remove” column and add in their place the references in the “Add” column in the following table:

Remove | Add
section 9(d) | section 9(d) (46 U.S.C. 40704).
section 11a(e)(1)(B) of the Act | section 11 of the Act (46 U.S.C. 41301-41302, 41305-41307(a)).

PART 531—NVOCC SERVICE ARRANGEMENTS

76. Revise the authority citation for Part 531 to read as follows:

Authority: 46 U.S.C. 40103.

Subpart A—General Provisions

§ 531.1 [Amended]

77. In § 531.1, remove the reference in the “Remove” column and add in its place the reference in the “Add” column in the following table:

Remove | Add
the Shipping Act of 1984 (“Act”) | the Shipping Act of 1984 (“the Act”).

§ 531.2 [Amended]

78. In § 531.2, remove the reference in the “Remove” column and add in its place the reference in the “Add” column in the following table:

Remove | Add
section 19 of the Act | section 19 of the Act (46 U.S.C. 40901-40904).

§ 531.3 [Amended]

79. In § 531.3(o), remove the reference in the “Remove” column and add in its place the reference in the “Add” column in the following table:

Remove | Add
section 3(17)(B) of the Act | section 3(17)(B) of the Act (46 U.S.C. 40102(16)).

Subpart B—Filing Requirements

§ 531.6 [Amended]

80. In § 531.6(d)(4), remove the reference in the “Remove” column and add in its place the reference in the “Add” column in the following table:

Remove | Add
sections 8 and 19 of the Act | sections 8 (46 U.S.C. 40501-40503) and 19 (46 U.S.C. 40901-40904) of the Act.

Subpart D—Exceptions and Implementation

§ 531.10 [Amended]

81. In § 531.10(a), remove the reference in the “Remove” column and add in its place the reference in the “Add” column in the following table:

Remove | Add
as defined in section 3 of the Act, the Commission's rules at 46 CFR 530.3 or 46 CFR 520.1 | as defined in section 3 of the Act (46 U.S.C. 40102) and § 530.3 or § 520.2 of this chapter.

82. In Appendix A to Part 531, revise the Instructions for Form FMC-78 to read as follows:

Appendix A to Part 531—Instructions for Form FMC-78

* * * * *

BILLING CODE 6730-01-P

BILLING CODE 6730-01-C

PART 535—OCEAN COMMON CARRIER AND MARINE TERMINAL OPERATOR AGREEMENTS SUBJECT TO THE SHIPPING ACT OF 1984

83. Revise the authority citation for Part 535 to read as follows:

Authority: 5 U.S.C. 553; 46 U.S.C. 305, 40101-40104, 40301-40307, 40501-40503, 40901-40904, 41101-41109, 41301-41302, and 41305-41307.

Subpart A—General Provisions

§ 535.101 [Amended]

84. In § 535.101, remove the reference in the “Remove” column and add in its place the reference in the “Add” column in the following table:

Remove | Add
sections 2, 3, 4, 5, 6, 7, 8, 10, 11, 13, 15, 16, 17, and 19 of the Shipping Act of 1984 (“the Act”). | sections 2, 3, 4, 5, 6, 7, 8, 10, 11, 13, 15, 16, 17, and 19 of the Shipping Act of 1984 (“the Act”) (46 U.S.C. 305, 40101-40104, 40301-40307, 40501-40503, 40901-40904, 41101-41109, 41301-41302, and 41305-41307).

§ 535.103 [Amended]

85. In § 535.103(f)(5), remove the reference in the “Remove” column and add in its place the reference in the “Add” column in the following table:

Remove | Add
sections 10(c)(1) or 10(c)(3) of the Act | sections 10(c)(1) or 10(c)(3) of the Act (46 U.S.C. 41105(1) or 41105(3)).

Subpart C—Exemptions

§ 535.301 [Amended]

86. In § 535.301(d), remove the reference in the “Remove” column and add in its place the reference in the “Add” column in the following table:

Remove | Add
section 16 of the Act | section 16 of the Act (46 U.S.C. 40103).

§ 535.302 [Amended]

87. In § 535.302(a)(1), remove the reference in the “Remove” column and add in its place the reference in the “Add” column in the following table:

Remove | Add
section 4 agreement | section 4 agreement (46 U.S.C. 40301(a)-(c)).

§ 535.307 [Amended]

88. In § 535.307(a), remove the reference in the “Remove” column and add in its place the reference in the “Add” column in the following table:

Remove | Add
section 4 of the Act | section 4 of the Act (46 U.S.C. 40301(a)-(c)).

89. In § 535.307(c), remove the reference in the “Remove” column and add in its place the reference in the “Add” column in the following table:

Remove | Add
section 10(c) of the Act | section 10(c) of the Act (46 U.S.C. 41105).

Subpart D—Filing of Agreements

§ 535.401 [Amended]

90. In § 535.401(a), remove the reference in the “Remove” column and add in its place the reference in the “Add” column in the following table:

Remove | Add
section 6 of the Act | section 6 of the Act (46 U.S.C. 40304, 40306, 41307(b)-(d)).

§ 535.405 [Amended]

91. In § 535.405(b), remove the reference in the “Remove” column and add in its place the reference in the “Add” column in the following table:

Remove | Add
sections 10(c)(1) or 10(c)(3) of the Act | sections 10(c)(1) or 10(c)(3) of the Act (46 U.S.C. 41105(1) or 41105(3)).

§ 535.408 [Amended]

92. In § 535.408(b), remove the reference in the “Remove” column and add in its place the reference in the “Add” column in the following table:

Remove | Add
section 5 of the Act | section 5 of the Act (46 U.S.C. 40301(d)-(e), 40302-40303, 40305).

Subpart F—Action on Agreements

§ 535.604 [Amended]

93. In § 535.604(c), remove the reference in the “Remove” column and add in its place the reference in the “Add” column in the following table:

Remove | Add
section 6(d) of the Act | section 6(d) of the Act (46 U.S.C. 40304(d)).

§ 535.606 [Amended]

94. In § 535.606(b), remove the reference in the “Remove” column and add in its place the reference in the “Add” column in the following table:

Remove | Add
sections 6(i) and 6(k) of the Act | sections 6(i) and 6(k) of the Act (46 U.S.C. 41307(c) and 41307(d)).

§ 535.607 [Amended]

95. In § 535.607(b), remove the reference in the “Remove” column and add in its place the reference in the “Add” column in the following table:

Remove | Add
section 6(i) of the Act | section 6(i) of the Act (46 U.S.C. 41307(c)).

96. In § 535.607(c), remove the reference in the “Remove” column and add in its place the reference in the “Add” column in the following table:

Remove | Add
section 6(i)(2) of the Act | section 6(i)(2) of the Act (46 U.S.C. 41307(c)(2)).

§ 535.608 [Amended]

97. In § 535.608(a), remove the reference in the “Remove” column and add in its place the reference in the “Add” column in the following table:

Remove | Add
section 5 of the Act | section 5 of the Act (46 U.S.C. 40301(d)-(e), 40302-40303, 40305).

Subpart H—Mandatory and Prohibited Provisions

§ 535.801 [Amended]

98. In § 535.801(a), remove the reference in the “Remove” column and add in its place the reference in the “Add” column in the following table:

Remove | Add
section 5(b)(8) of the Act | section 5(b)(8) of the Act (46 U.S.C. 40303(b)(8)).

§ 535.802 [Amended]

99. In § 535.802(b), remove the reference in the “Remove” column and add in its place the reference in the “Add” column in the following table:

Remove | Add
section 8(c)(3) of the Act | section 8(c)(3) of the Act (46 U.S.C. 40502(d)).

Subpart I—Penalties

§ 535.901 [Amended]

100. In § 535.901, remove the references in the “Remove” column and add in their place the references in the “Add” column in the following table:

Remove | Add
sections 4 and 5(a) of the Act | sections 4 and 5(a) of the Act (46 U.S.C. 40301(a)-(c) and 40302).
section 16 of the Act | section 16 of the Act (46 U.S.C. 40103).
section 13(a) of the Act | section 13(a) of the Act (46 U.S.C. 41107).

§ 535.902 [Amended]

101. In § 535.902, remove the reference in the “Remove” column and add in its place the reference in the “Add” column in the following table:

Remove | Add
section 13(a) of the Act | section 13(a) of the Act (46 U.S.C. 41107).

Appendix A to Part 535—Information Form and Instructions

Information Form Instructions [Amended]

102. In the Privacy Act and Paperwork Reduction Act Notice in Appendix A to Part 535, remove the reference in the “Remove” column and add in its place the reference in the “Add” column in the following table:

Remove | Add
section 15 of the Shipping Act of 1984, 46 U.S.C. app. § 1714 | section 15 of the Shipping Act of 1984 (46 U.S.C. 40104).

Appendix B to Part 535—Monitoring Report and Instructions

Monitoring Report Instructions [Amended]

103. In the Privacy Act and Paperwork Reduction Act Notice in Appendix B to Part 535, remove the reference in the “Remove” column and add in its place the reference in the “Add” column in the following table:

Remove | Add
section 15 of the Shipping Act of 1984, 46 U.S.C. app. § 1714 | section 15 of the Shipping Act of 1984 (46 U.S.C. 40104).

PART 540—PASSENGER VESSEL FINANCIAL RESPONSIBILITY

104. Revise the authority citation for Part 540 to read as follows:

Authority: 5 U.S.C. 552, 553; 31 U.S.C. 9701; 46 U.S.C. 305, 44101-44106.

Subpart A—Proof of Financial Responsibility, Bonding and Certification of Financial Responsibility for Indemnification of Passengers for Nonperformance of Transportation

§ 540.1 [Amended]

105. In § 540.1(b), remove the reference in the “Remove” column and add in its place the reference in the “Add” column in the following table:

Remove | Add
(46 U.S.C. app. 91, 817d and 817e) | (46 U.S.C. 44101-44106, 60105).

§ 540.4 [Amended]

106. In § 540.4(a), remove the reference in the “Remove” column and add in its place the reference in the “Add” column in the following table:

Remove | Add
section 3 of Public Law 89-777 (80 Stat. 1357, 1358) | section 3 of Public Law 89-777 (46 U.S.C. 44101-44102, 44104-44106).

§ 540.5 [Amended]

107. In § 540.5(d), remove the reference in the “Remove” column and add in its place the reference in the “Add” column in the following table, wherever it may appear:

Remove | Add
under section 3 of Public Law 89-777 | under section 3 of Public Law 89-777 (46 U.S.C. 44101-44102, 44104-44106).

Form FMC-131 To Subpart A of Part 540

Form FMC-131 [Amended]

108. In Form FMC-131, in paragraph 16.(a), remove the reference in the “Remove” column and add in its place the reference in the “Add” column in the following table:

Remove | Add
section 2 of Public Law 89-777 | section 2 of Public Law 89-777 (46 U.S.C. 44101, 44103-44106).

Form FMC-133A to Subpart A of Part 540

Form FMC-133A [Amended]

109. In Form FMC-133A, remove the references in the “Remove” column and add in their place the references in the “Add” column in the following table:

Remove | Add
Guaranty in Respect of Liability for Nonperformance, Section 3 of the Act | Guaranty in Respect of Liability for Nonperformance, Section 3 of the Act (46 U.S.C. 44101-44102, 44104-44106).
section 3 of Pub. L. 89-777, 89th Congress, approved November 6, 1966 (“the Act”) | section 3 of Pub. L. 89-777, 89th Congress, approved November 6, 1966 (“the Act”) (46 U.S.C. 44101-44102, 44104-44106).

Appendix A to Subpart A of Part 540—Example of Escrow Agreement for Use Under 46 CFR 540.5(b)

Escrow Agreement [Amended]

110. In Escrow Agreement, in paragraph 12., remove the reference in the “Remove” column and add in its place the reference in the “Add” column in the following table:

Remove | Add
section 3 of Public Law 89-777 | section 3 of Public Law 89-777 (46 U.S.C. 44101-44102, 44104-44106).

Subpart B—Proof of Financial Responsibility, Bonding and Certification of Financial Responsibility To Meet Liability Incurred for Death or Injury to Passengers or Other Persons on Voyages

§ 540.23 [Amended]

111. In § 540.23(a), remove the reference in the “Remove” column and add in its place the reference in the “Add” column in the following table:

Remove | Add
section 2 of Pub. L. 89-777 (80 Stat. 1357, 1358) | section 2 of Public Law 89-777 (46 U.S.C. 44101, 44103-44106).

Form FMC-132B to Subpart B of Part 540

Form FMC-132B [Amended]

112. In Form FMC-132B, remove the reference in the “Remove” column and add in its place the reference in the “Add” column in the following table:

Remove | Add
section 2(a) of Pub. L. 89-777 | section 2(a) of Pub. L. 89-777 (46 U.S.C. 44103(b)).

Form FMC-133B to Subpart B of Part 540

Form FMC-133B [Amended]

113. In Form FMC-133B, remove the references in the “Remove” column and add in their place the references in the “Add” column in the following table:

Remove | Add
Guaranty in Respect of Liability for Death or Injury, Section 2 of the Act | Guaranty in Respect of Liability for Death or Injury, Section 2 of the Act (46 U.S.C. 44101, 44103-44106).
section 2(a) of the Act | section 2(a) of the Act (46 U.S.C. 44103(b)).
section 2(e) of the Act | section 2(e) of the Act (46 U.S.C. 44105).

.

PART 545—INTERPRETATIONS AND STATEMENTS OF POLICY

114. Revise the authority citation for Part 545 to read as follows:

Authority: 5 U.S.C. 553; 46 U.S.C. 305, 40307, 40501-40503, 41101-41106, and 40901-40904; 46 CFR 515.23

§ 545.1 [Amended]

115. In § 545.1(a), remove the references in the “Remove” column and add in their place the references in the “Add” column in the following table:

Remove | Add
Section 8(c) of the Shipping Act of 1984 (“1984 Act”) | 8(c) of the Shipping Act of 1984 (“the Act”) (46 U.S.C. 40502).
requirements of the 1984 Act | requirements of the Act.
Section 10(b)(10) of the 1984 Act | Section 10(b)(10) of the Act (46 U.S.C. 41104(10)).
Section 7(a)(2) of the 1984 Act | Section 7(a)(2) of the Act (46 U.S.C. 40307(a)(3)).

§ 545.2 [Amended]

116. In § 545.2, remove the reference in the “Remove” column and add in its place the reference in the “Add” column in the following table:

Remove | Add
Section 10(a)(1) of the Shipping Act of 1984 | Section 10(a)(1) of the Shipping Act of 1984 (46 U.S.C. 41102(a)).

PART 550—REGULATIONS TO ADJUST OR MEET CONDITIONS UNFAVORABLE TO SHIPPING IN THE FOREIGN TRADE OF THE UNITED STATES

117. Revise the authority citation for Part 550 to read as follows:

Authority: 5 U.S.C. 553; 46 U.S.C. 301-307; sec. 19 (a)(2), (e), (f), (g), (h), (i), (j), (k) and (l) of the Merchant Marine Act, 1920, 46 U.S.C. 42101 and 42104-42109; and sec. 10002 of the Foreign Shipping Practices Act of 1988, 46 U.S.C. 42301-42307.

Subpart A—General Provisions

§ 550.101 [Amended]

118. In § 550.101, remove the reference in the “Remove” column and add in its place the reference in the “Add” column in the following table:

Remove | Add
section 19 of the Merchant Marine Act of 1920 | section 19 of the Merchant Marine Act of 1920 (46 U.S.C. 42101-42109).

Subpart F—Corrective Actions

§ 550.601 [Amended]

119. In § 550.601(f), remove the reference in the “Remove” column and add in its place the reference in the “Add” column in the following table:

Remove | Add
section 4197 of the Revised Statutes, 46 U.S.C. app. 91 | section 4197 of the Revised Statutes (46 U.S.C. 60105).

PART 551—ACTIONS TO ADJUST OR MEET CONDITIONS UNFAVORABLE TO SHIPPING IN THE U.S. FOREIGN TRADE

120. Revise the authority citation for Part 551 to read as follows:

Authority: 46 U.S.C. 301-307; 46 U.S.C. 42101-42109; 46 CFR Part 550.

§ 551.1 [Amended]

121. In § 551.1, remove the reference in the “Remove” column and add in its place the reference in the “Add” column in the following table:

Remove | Add
section 19(1)(b) of the Merchant Marine Act, 1920, 46 U.S.C. app. 876(1)(b) | section 19(1)(b) of the Merchant Marine Act, 1920 (46 U.S.C. 42101).

PART 555—ACTIONS TO ADDRESS ADVERSE CONDITIONS AFFECTING U.S.-FLAG CARRIERS THAT DO NOT EXIST FOR FOREIGN CARRIERS IN THE UNITED STATES

122. Revise the authority citation for Part 555 to read as follows:

Authority: 5 U.S.C. 553; sec. 10002 of the Foreign Shipping Practices Act of 1988 (46 U.S.C. 42301-42307).

§ 555.2 [Amended]

123. In § 555.2(a), remove the reference in the “Remove” column and add in its place the reference in the “Add” column in the following table:

Remove | Add
section 3 of the Shipping Act of 1984 (46 U.S.C. app. 1702) | section 3 of the Shipping Act of 1984 (46 U.S.C. 40102).

§ 555.5 [Amended]

124. In § 555.5(b), remove the reference in the “Remove” column and add in its place the reference in the “Add” column in the following table:

Remove | Add
ex parte contacts (§ 502.11 of this chapter) | ex parte communications (§ 502.11 of this chapter).

§ 555.8 [Amended]

125. In § 555.8(a)(5), remove the reference in the “Remove” column and add in its place the reference in the “Add” column in the following table:

Remove | Add
section 4197 of the Revised Statutes, 46 U.S.C. app. 91 | section 4197 of the Revised Statutes (46 U.S.C. 60105).

PART 560—ACTIONS TO ADDRESS CONDITIONS UNDULY IMPAIRING ACCESS OF U.S.-FLAG VESSELS TO OCEAN TRADE BETWEEN FOREIGN PORTS

126. Revise the authority citation for Part 560 to read as follows:

Authority: 5 U.S.C. 553; secs. 13(b)(6), 15 and 17 of the Shipping Act of 1984, 46 U.S.C. 305, 40104, and 41108(d); sec. 10002 of the Foreign Shipping Practices Act of 1988 (46 U.S.C. 42301-42307).

§ 560.1 [Amended]

127. In § 560.1(a)(1), remove the reference in the “Remove” column and add in its place the reference in the “Add” column in the following table:

Remove | Add
section 13(b)(6) of the Shipping Act of 1984 (“the Act”) (46 U.S.C. app. 1712(b)(6)) | section 13(b)(6) of the Shipping Act of 1984 (“the Act”) (46 U.S.C. 41108(d)).

128. In § 560.1(a)(2), remove the reference in the “Remove” column and add in its place the reference in the “Add” column in the following table:

Remove | Add
section 13(b)(6) may be invoked | section 13(b)(6) (46 U.S.C. 41108(d)) may be invoked.

129. In § 560.1(a)(3), remove the reference in the “Remove” column and add in its place the reference in the “Add” column in the following table:

Remove | Add
section 2 of the Act (46 U.S.C. app. 1701) | section 2 of the Act (46 U.S.C. 40101).

130. In § 560.1(b)(2), remove the references in the “Remove” column and add in their place the references in the “Add” column in the following table:

Remove | Add
ex parte contacts (§ 502.11 of this chapter) | ex parte communications (§ 502.11 of this chapter).
service of documents and copies of documents (§§ 502.114(b) and 502.118 of this chapter | service of documents and copies of documents (§§ 502.114(b) and 502.118 of this chapter).

§ 560.5 [Amended]

131. In § 560.5(a), remove the reference in the “Remove” column and add in its place the reference in the “Add” column in the following table:

Remove | Add
under section 13(b)(6) of the Act | under section 13(b)(6) of the Act (46 U.S.C. 41108(d)).

§ 560.7 [Amended]

132. In § 560.7(b)(3)(ii), remove the reference in the “Remove” column and add in its place the reference in the “Add” column in the following table:

Remove | Add
under the Act (46 U.S.C. app. 1712(b)(3)) | under the Act (46 U.S.C. 41108(b)).

133. In § 560.7(b)(6), remove the reference in the “Remove” column and add in its place the reference in the “Add” column in the following table:

Remove | Add
section 4197 of the Revised Statutes, 46 U.S.C. app. 91 | section 4197 of the Revised Statutes (46 U.S.C. 60105).

PART 565—CONTROLLED CARRIERS

134. Revise the authority citation for Part 565 to read as follows:

Authority: 46 U.S.C. 40701-40706.

§ 565.1 [Amended]

135. In § 565.1(a), remove the reference in the “Remove” column and add in its place the reference in the “Add” column in the following table:

Remove | Add
section 9 of the Shipping Act of 1984 | section 9 of the Shipping Act of 1984 (46 U.S.C. 40701-40706).

136. In § 565.1(b), remove the reference in the “Remove” column and add in its place the reference in the “Add” column in the following table:

Remove | Add
section 9(f) of the Shipping Act of 1984 | section 9(f) of the Shipping Act of 1984 (46 U.S.C. 40706).

§ 565.5 [Amended]

137. In § 565.5, remove the reference in the “Remove” column and add in its place the reference in the “Add” column in the following table:

Remove | Add
section 9 of the Shipping Act of 1984 | section 9 of the Shipping Act of 1984 (46 U.S.C. 40701-40706).

§ 565.7 [Amended]

138. In § 565.7(b)(2)(ii), remove the reference in the “Remove” column and add in its place the reference in the “Add” column in the following table:

Remove | Add
section 9 of the Shipping Act of 1984 | section 9 of the Shipping Act of 1984 (46 U.S.C. 40701-40706).

§ 565.8 [Amended]

139. In § 565.8, remove the references in the “Remove” column and add in their place the references in the “Add” column in the following table:

Remove | Add
Section 8(d) of the Shipping Act of 1984 | Section 8(d) of the Shipping Act of 1984 (46 U.S.C. 40501(e)).
Section 9(c) of the Shipping Act of 1984 | Section 9(c) of the Shipping Act of 1984 (46 U.S.C. 40703, 40704(a)).

By the Commission.
Karen V. Gregory,
Secretary.

[FR Doc. E9-22659 Filed 9-30-09; 8:45 am]

BILLING CODE 6730-01-P